SOCIAL SECURITY ADMINISTRATION

[Docket No. SSA 2014-0048]

Privacy Act of 1974, as Amended; Computer Matching Program (SSA/Office of Child Support Enforcement (OCSE))—Match Number 1074

AGENCY: Social Security Administration (SSA) .

ACTION: Notice of a renewal of an existing computer matching program that will expire on December 11, 2014.

SUMMARY: In accordance with the provisions of the Privacy Act, as amended, this notice announces a renewal of an existing computer matching program that we are currently conducting with OCSE.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Kirsten J. Moncada,
Executive Director, Office of Privacy and Disclosure, Office of the General Counsel.

Notice of Computer Matching Program, SSA with the Office of Child Support Enforcement (OCSE)

A. Participating Agencies

SSA and OCSE

B. Purpose of the Matching Program

This computer matching agreement governs a matching program between OCSE and us. The agreement covers the following information exchange operations between OCSE and us from the National Directory of New Hires (NDNH): online query access for Supplemental Security Income (SSI), Disability Insurance (DI), and Ticket-to-Work and Self-Sufficiency (Ticket) programs; and SSI Quarterly Wage batch match. This agreement also governs the use, treatment, and safeguarding of the information exchanged. This agreement assists us in (1) establishing or verifying eligibility or payment amounts, or both under the SSI program; (2) establishing or verifying eligibility or continuing entitlement under the DI program; and (3) in administering the Ticket programs. We evaluate the cost-benefits, including programmatic and operational impact, which NDNH information has on our programs and operations.

C. Authority for Conducting the Matching Program

The legal authorities for disclosures under this agreement are the Social Security Act (Act) and the Privacy Act of 1974, as amended. 453(j)(4) of the Act provides that OCSE shall provide our Commissioner with all information in NDNH. 42 U.S.C. 653(j)(4). We have authority to use data to determine entitlement and eligibility for programs we administer pursuant to 453(j)(4), 1631(e)(1)(B) and (f), and 1148(d)(1) of the Act. 42 U.S.C. 653(j)(4), 1320b-19(d)(1), and 1383(e)(1)(B) and (f). Disclosures under this agreement shall be made in accordance with 5 U.S.C. 552a(b)(3), and in compliance with the matching procedures in 5. U.S.C. 552a(o), (p), and (r). Our Commissioner is required to verify eligibility of a recipient or applicant for SSI using independent or collateral sources. SSI benefits may not be determined solely based on declarations by the applicant concerning eligibility factors or other relevant facts. Information is also obtained, as necessary, in order to assure that SSI benefits are only provided to eligible individuals (or eligible spouses) and that the amounts of such benefits are correct. 1631(e)(1)(B) of the Act. Section 1631(f) of the Act provides that “the head of any federal agency shall provide such information as our Commissioner needs for purposes of determining eligibility for the amount of benefits, or verifying information with respect thereto.” Section 1148(d)(1) of the Act requires us to verify earnings of beneficiaries/recipients to ensure accurate payments to employer network providers under the Ticket program.

D. Categories of Records and Persons Covered by the Matching Program

We will provide electronically to OCSE the following data elements in the finder file: individual's Social Security number (SSN) and name. OCSE will provide electronically to us the following data elements from the NDNH in the quarterly wage file: quarterly wage record identifier; for employees: name, SSN, verification request code, processed date, non-verifiable indicator, wage amount, and reporting period; for employers of individuals in the quarterly wage file of the NDNH: name, employer identification number, and address(es); transmitter agency code; transmitter state code; and state or agency name. OCSE will provide electronically to us the following data elements from the NDNH in the unemployment insurance file: unemployment insurance record identifier; processed date; SSN; verification request code; name; address; unemployment insurance benefit amount; reporting period; transmitter agency code; transmitter state code; and state or agency name. We will us the individual's SSN to initiate an online query for NDNH records. Data elements we can access on the NDNH quarterly wage screen: quarterly wage record identifier; date report processed; name/SSN verified; for employees: SSN, Name, wage amount, and reporting period; for employers: name, employer identification number employer FIPS code (if present) and address(es). Data elements we can access on the NDNH new hire screen: new hire record identifier; name/SSN verified; date report processed; for employees: SSN, name, and date of hire; for employers: name, employer identification number, employer FIPS code (if present) and address(es). Data elements we can access on the NDNH unemployment insurance screen: unemployment insurance record identifier; name/SSN verified; SSN; name; address; unemployment insurance benefit amount; reporting period; payer state; and date report processed.

E. Inclusive Dates of the Matching Program

The effective date of this matching program is December 12, 2014, provided that the following notice periods have lapsed: 30 days after publication of this notice in the Federal Register and 40 days after notice of the matching program is sent to Congress and OMB. The matching program will continue for 18 months from the effective date and, if both agencies meet certain conditions, it may extend for an additional 12 months thereafter.

[FR Doc. 2014-24815 Filed 10-17-14; 8:45 am]

BILLING CODE 4191-02-P